FEDERAL COMMUNICATIONS COMMISSION

47 CFR Part 73

[DA 07-4503; MB Docket No. 07-174; RM-11387]

Radio Broadcasting Services; Walden, CO

AGENCY: Federal Communications Commission.

ACTION: Final rule.

SUMMARY: The Audio Division, at the request of Laramie Mountain Broadcasting, LLC, allots Channel 226C3 at Walden, Colorado, as the community's second local FM service. Channel 226C3 can be allotted to Walden, Colorado, in compliance with the Commission's minimum distance separation requirements with a site restriction of 20.6 km (12.8 miles) west of Walden, at the following reference coordinates: 40-42-01 North Latitude and 106-31-21 West Longitude.

DATES: Effective December 17, 2007.

ADDRESSES: Federal Communications Commission, 445 12th Street, SW., Washington, DC 20554.

FOR FURTHER INFORMATION CONTACT: Deborah Dupont, Media Bureau, (202) 418-2180.

SUPPLEMENTARY INFORMATION: This is a synopsis of the Commission's Report and Order, MB Docket No. 07-174, adopted October 31, 2007, and released November 2, 2007. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR Part 73 as follows:

PART 73—RADIO BROADCAST SERVICES

1. The authority citation for Part 73 continues to read as follows:

Authority: 47 U.S.C. 154, 303, 334, 336.

§ 73.202 [Amended]

2. Section 73.202(b), the Table of FM Allotments under Colorado, is amended by adding Walden, Channel 226C3.

Federal Communications Commission.
John A. Karousos,
Assistant Chief, Audio Division, Media Bureau.

[FR Doc. E7-23301 Filed 11-29-07; 8:45 am]

BILLING CODE 6712-01-P